DEPARTMENT OF HOMELAND SECURITY

Bureau of Customs and Border Protection

Re-Accreditation and Re-Approval Intertek Testing Services as a Commercial Gauger and Laboratory

AGENCY: Bureau of Customs and Border Protection, Department of Homeland Security.

ACTION: Notice of re-approval of Intertek Testing Services, Corpus Christi, Texas, as a commercial gauger and laboratory.

SUMMARY: Notice is hereby given that, pursuant to 19 CFR 151.12 and 151.13, Intertek Testing Services/Caleb Brett, Corpus Christi, Texas 78406, has been re-approved to gauge petroleum and petroleum products, organic chemicals and vegetable oils, and to test petroleum and petroleum products for customs purposes, in accordance with the provisions of 19 CFR 151.12 and 151.13. Anyone wishing to employ this entity to conduct laboratory analysis or gauger services should request and receive written assurances from the entity that it is accredited or approved by the Bureau of Customs and Border Protection to conduct the specific test or gauger service requested. Alternatively, inquiries regarding the specific tests or gauger services this entity is accredited or approved to perform may be directed to the Bureau of Customs and Border Protection by calling (202) 344-1060. The inquiry may also be sent to http://www.cbp.gov/xp/cgov/import/operations_support/labs_scientific_svcs/org_and_operations.xml.

DATES: The re-approval of Intertek Testing Services as a commercial gauger and laboratory became effective on April, 2011. The next triennial inspection date will be scheduled for April 2014.

FOR FURTHER INFORMATION CONTACT: Donald Cousins, Director, Scientific Services, Laboratories and Scientific Services, Bureau of Customs and Border Protection, 1331 Pennsylvania Avenue, NW., Suite 1500N, Washington, DC 20229, 202-344-1295.

Dated: August 16, 2011.
Ira S. Reese,
Executive Director, Laboratories and Scientific Services.

[FR Doc. 2011-22719 Filed 9-2-11; 8:45 am]

BILLING CODE 9111-14-P